DEPARTMENT OF AGRICULTURE

Forest Service

Ketchikan-Misty Fiords Ranger District; Tongass National Forest; Alaska; Ketchikan-Misty Fiords Ranger District Outfitter/Guide Management Plan

AGENCY: Forest Service, USDA.

ACTION: Notice of intent to prepare an environmental impact statement.

SUMMARY: The USDA, Forest Service will prepare an environmental impact statement (EIS) on a proposed action to allocate about 54,000 visitor days (of the estimated recreation carrying capacity of approximately 148,000 days) annually for outfitter and guide use on the Ketchikan-Misty Fiords Ranger District. The decision on the EIS will allocate recreation carrying capacity on the District to outfitters and guides through special use permits that serve the public need for guide services. The allocation will set limits for outfitter and guide use levels, but will not limit or regulate use by unguided visitors. The alternatives will include the proposed action, no action, and additional alternatives that respond to issues identified during scoping. The agency will give notice of the full environmental analysis and decision-making process so interested and affected people may participate and contribute to the final decision.

DATES: Comments concerning the scope of the analysis must be received by November 1, 2010. The draft environmental impact statement is expected to be completed in March 2011 and the final environmental impact statement is expected in August 2011.

ADDRESSES: Send written comments to Sue Jennings, Interdisciplinary Team Leader, Ketchikan-Misty Fiords Ranger District, 3031 Tongass Ave., Ketchikan, AK 99901, Fax: (907) 225-8738 or on-line at comments-alaska-tongass-ketchikan-mistyfiord@fs.fed.us.

FOR FURTHER INFORMATION CONTACT: Sue Jennings, Interdisciplinary Team Leader, (907) 772-5864, by email: sjennings@fs.fed.us, or Ketchikan-Misty Fiords Ranger District, 3031 Tongass Ave., Ketchikan, AK 99901.

SUPPLEMENTARY INFORMATION:

Purpose and Need for Acton

In 2007, the Forest Supervisor determined a need existed for outfitter and guide services within Wilderness Areas on the Tongass. In 2008, a Determination of Need for Commercial Uses on the Ketchikan-Misty Fiords Ranger District was completed that demonstrated the need for commercially guided opportunities on the wilderness and non-wilderness portions of the District.

This action responds to the goals and objectives outlined in the Forest Plan, which provides standards and guidelines for authorizing the services of qualified outfitters and guides to the public in areas with an identified need for the services and the use is compatible with the objectives and management direction of the affected Land Use Designation.

A district-wide outfitter/guide plan is needed because the current permitting process:

• Does not satisfy Forest Service direction for issuing long-term (5-10 year) priority use permits,

• Does not provide managers with a district-wide strategy for reducing conflicts between guided and unguided visitors and ensuring a range of recreational opportunities are offered across the District,

• Does not allow the Forest Service to respond to special use permit applications in a timely manner because each application involves a separate analysis and scoping process consistent with the National Environmental Policy Act (NEPA), and

• Does not fully address cumulative impacts of outfitter/guide use on forest resources, including wilderness character.

The purpose of this plan is to:

• Determine visitor capacity estimates and outfitter and guided use allocations for 28 recreation use areas on the Ketchikan-Misty Fiords Ranger District,

• Provide opportunities for guided use while minimizing resource impacts and conflicts between guided and unguided visitors,

• Satisfy Forest Service requirements for issuance of long-term, priority use permits,

• Provide standards and indicators for monitoring social conditions across the District,

• Develop an adaptive management strategy for adjusting guided use allocations based on monitoring information collected during the life of this plan, and

• Improve the Forest Service's ability to process permits in a timely manner.

If there is a demonstrated need for commercial service(s) and these services are deemed appropriate, the Forest Service may issue Special Use Authorizations (SUAs) to individual(s) or organization(s) (USDA 2008a, p.3-20) to provide the services. This action also responds to Forest Service policy (FSM 2720 and FSH2709.11), which allows for issuance of priority use permits, after a needs assessment and resource capacity analysis have been completed to identify the public or agency need for outfitting and guiding activities and to assess the amount of use that may be conducted without detrimental social and environmental impacts. Multi-year priority use permits allow outfitters and guides to make financial commitments necessary to continue providing service to the public.

The overall goal of the project is to work with the public to provide opportunities for guided and unguided use, while minimizing conflicts and protecting forest resources.

Proposed Action

The action proposed by the Forest Service to meet the purpose and need is to authorize outfitter and guide operations through the issuance of special use permits based on the Determination of Need for Commercial Uses on the Ketchikan-Misty Fiords Ranger District (2008), visitor capacity estimates, and guided use allocations for the District's 28 recreation use areas.

This proposed action would authorize the issuance of commercial outfitter/guide permits for KMRD. The proposed action allocates zero to 75 percent of the visitor capacity in the 28 use areas to outfitters and guides during the summer season and zero to 40 percent during the spring and fall seasons. Overall, the proposal would allocate approximately 54,000 visitor days annually for outfitter and guide use on the KMRD (5,124 visitor days in the spring, 44,420 visitor days in the summer, and 4,456 visitor days in the fall). Some of the areas with a proposed allocation of 75 percent are in wilderness areas that are little used by unguided visitors. Due to very low outfitter and guide use in the winter, there are no winter allocations proposed with this project; winter permitting will follow the current process.

The Proposed Action includes the ability to use adaptive management to maintain a range of quality recreation experiences across the District and a balance between guided and unguided use. Adaptive management may result in increased or decreased allocations for specific recreation use areas based on standards and the level of effects.

All outfitter and guide operations will be subject to area-wide and site-specific mitigation measures to protect natural and historic resources and minimize crowding and conflicts between guided and unguided visitors.

For those operators who have demonstrated satisfactory performance, the District Ranger may issue priority use permits based on the guided use allocations, for a period of up to 10 years, in accordance with FSH 2709.11, Chapter 40. Authorized use may also be temporary in nature (authorized for less than one year).

Possible Alternatives

A full range of alternatives will be considered including a “No Action” alternative in which no change from the current management of the outfitter and guide special uses program would occur; outfitter and guide special use permits would continue to be issued on a temporary basis. Based on preliminary issues gathered through collaborative meetings prior to scoping, two additional alternatives are under consideration. One alternative may allocate one-half of the estimated carrying capacity to outfitters and guides across the 28 recreation use areas. Another alternative may propose minimal (15 percent) allocations in some wilderness-recreation-use-areas, no allocations in some sensitive areas and areas heavily used by unguided visitors, 25 percent use in the Margaret Bay Use Area, and 50 percent allocation in other areas during the summer season. These alternatives could be adjusted and/or additional alternatives proposed based on comments received during scoping.

Responsible Official

The Ketchikan-Misty Fiords District Ranger is the responsible official for this proposal: Ketchikan-Misty Fiords District Ranger, 3031 Tongass Ave., Ketchikan, AK 99901.

Nature of Decision To Be Made

The District Ranger will decide how to manage the outfitter and guide special use program by allocating a portion of the total estimated recreation carrying capacity for commercial use, while protecting forest resources and taking into account the needs of unguided visitors.

Given the purpose and need, the District Ranger will review the proposed action and the other alternatives in order to make the following decisions:

• The locations, limitations, management, and allocations for outfitter and guide permits and opportunities on the Ketchikan-Misty Fiords Ranger District, for the next five to ten years;

• The extent, type, amount, and location of outfitter and guide use to allocate within the Misty Fiords Wilderness Area;

• How best to manage outfitter and guide use on the KMRD to minimize potential impacts to all resources; and

• What, if any, mitigation measures and monitoring are needed.

The District Ranger will also decide whether and how to use adaptive management to potentially increase or decrease allocations for specific recreation use areas in order to maintain a range of quality recreation experiences across the District and a balance between guided and unguided use.

Scoping Process

The public will have an opportunity to participate at several points during the analysis, including the scoping period after publication of the Notice of Intent and the draft EIS in the Federal Register. Notification of these opportunities will also appear in subsequent issues of the Tongass National Forest's Schedule of Proposed Activities; letters to agencies, organizations, and individuals who have previously indicated their interest in such activities; and in the Ketchikan Daily News. A public meeting is planned in Ketchikan on October 26, 2010 at the Ketchikan-Misty Fiords Ranger District Office, 3031 Tongass Ave., Ketchikan, AK 99901, from 6 p.m. to 8 p.m. Public meetings and subsistence hearings are expected in Ketchikan, Saxman, Hyder, and Metlakatla during the spring of 2011, after the DEIS is published in the Federal Register. The scoping process will include identifying major issues to be analyzed in depth, eliminating non-significant issues, considering alternatives based on issues recognized during scoping activities, and identifying potential environmental effects of the proposed action and alternatives (i.e. direct, indirect, and cumulative effects).

Preliminary Issues

Preliminary issues were identified during collaborative meetings held before scoping began on this project. Preliminary issues include the potential effects of the proposed action on businesses, wilderness, heritage resources, and visitors' experience (through crowding and noise disturbance).

Permits or Licenses Required

The Forest Service is not required to obtain permits or licenses to implement this project. However, outfitter and guide permit holders are responsible for obtaining necessary permits from federal and state agencies prior to commencing outfitting and guiding.

Comment Requested

This Notice of Intent initiates the scoping process, which guides the development of the environmental impact statement. Public comments about this proposal are requested in order to assist in properly scoping issues, to determine how best to manage the resources, and to fully analyze environmental effects. Please identify issues of concern to you and the Ketchikan-Misty Fiords Ranger District communities about recreational use.

Early Notice of Importance of Public Participation in Subsequent Environmental Review: A draft environmental impact statement will be prepared for comment. The comment period on the draft environmental impact statement will be 45 days from the date the Environmental Protection Agency publishes the notice of availability in the Federal Register. It is important that reviewers provide their comments at such times and in such a way that they are useful to the Agency's preparation of the EIS. Therefore, comments should be provided prior to the close of the comment period and should clearly articulate the reviewer's concerns and contentions. The submission of timely and specific comments can affect a reviewer's ability to participate in subsequent administrative review or judicial review. Comments received in response to this solicitation, including names and addresses of those who comment, will be part of the public record for this proposed action. Comments submitted anonymously will be accepted and considered; however, anonymous comments will not provide the respondent with standing to participate in subsequent administrative review or judicial review.

Reviewers may wish to refer to the Council on Environmental Quality Regulations for implementing the procedural provisions of the National Environmental Policy Act at 40 CFR 1503.3 in addressing these points.

Comments received, including the names and addresses of those who comment, will be considered part of the public record on this proposal and will be available for public inspection.

Authority: 40 CFR 1501.7 and 1508.22; Forest Service Handbook 1909.15, Section 21.

Dated: September 20, 2010.
Jeffrey DeFreest,
District Ranger.

[FR Doc. 2010-24179 Filed 9-24-10; 8:45 am]

BILLING CODE 3410-11-P